DEPARTMENT OF COMMERCE

International Trade Administration

[C-533-866]

Certain Cold-Rolled Steel Flat Products From India: Notice of Rescission of Countervailing Duty Administrative Review, 2016

AGENCY: Enforcement and Compliance, International Trade Administration, Department of Commerce.

SUMMARY: The Department of Commerce (Commerce) is rescinding the administrative review of the countervailing duty (CVD) order on certain cold-rolled steel flat products from India for the period September 16, 2016, to December 31, 2016, based on the timely withdrawal of the request for review.

DATES: Applicable March 28, 2018.

FOR FURTHER INFORMATION CONTACT: Robert Galantucci, AD/CVD Operations, Office IV, Enforcement and Compliance, International Trade Administration, U.S. Department of Commerce, 1401 Constitution Avenue NW, Washington, DC 20230; telephone: (202) 482-2923.

SUPPLEMENTARY INFORMATION:

Background

On September 1, 2017, Commerce published in the Federal Register a notice of opportunity to request an administrative review of the CVD order on certain cold-rolled steel flat products from India for the period September 16, 2016, to December 31, 2016.¹ On October 2, 2017, Commerce received a timely request, in accordance with section 751(a) of the Tariff Act of 1930, as amended (the Act), from ArcelorMittal USA LLC, AK Steel Corporation, Nucor Corporation, Steel Dynamics, Inc., and United States Steel Corporation (collectively, the petitioners) to conduct an administrative review of this CVD order.² Based upon this request, on November 13, 2017, in accordance with section 751(a) of the Act, Commerce published in the Federal Register a notice of initiation of administrative review for this CVD order.³ On December 6, 2017, the petitioners timely withdrew, in full, their request for an administrative review.⁴ No other party requested a review.⁵

¹ See Antidumping or Countervailing Duty Order, Finding, or Suspended Investigation: Opportunity to Request Administrative Review, 82 FR 41595 (September 1, 2017).

² See Letter from the petitioners to Commerce, “Cold-Rolled Steel Flat Products from India—Request for Initiation of Countervailing Duty Administrative Review,” dated October 2, 2017.

³ See Initiation of Antidumping and Countervailing Duty Administrative Reviews, 82 FR 52268, 52272 (November 13, 2017).

⁴ See Letter from the petitioners to Commerce, “Cold-Rolled Steel Flat Products from India—Petitioners' Withdrawal of Request for Administrative Review,” dated December 6, 2017.

⁵ We note that Commerce exercised its discretion to toll all deadlines affected by the closure of the Federal Government from January 20 through 22, 2018. See Memorandum from Christian Marsh, Deputy Assistant Secretary for Enforcement and Compliance, performing the non-exclusive functions and duties of the Assistant Secretary for Enforcement and Compliance, “Deadlines Affected by the Shutdown of the Federal Government,” dated January 23, 2018. Therefore, all deadlines in this segment of the proceeding have been extended by 3 days.

Commerce exercised its discretion to toll all deadlines affected by the closure of the Federal Government from January 20 through 22, 2018. If the new deadline falls on a non-business day, in accordance with Commerce's practice, the deadline will become the next business day.⁶

⁶ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Rescission of Review

Pursuant to 19 CFR 351.213(d)(1), Commerce will rescind an administrative review, in whole or in part, if a party who requested the review withdraws the request within 90 days of the date of publication of the notice of initiation of the requested review. As noted above, the petitioners withdrew their request for review by the 90-day deadline. No other party requested an administrative review. Accordingly, we are rescinding the administrative review of the CVD order on certain cold-rolled steel flat products from India for the period September 16, 2016, to December 31, 2016.

Assessment

Commerce will instruct U.S. Customs and Border Protection (CBP) to assess countervailing duties on all appropriate entries at a rate equal to the cash deposit of estimated countervailing duties required at the time of entry, or withdrawal from warehouse, for consumption, during the period September 16, 2016, to December 31, 2016, in accordance with 19 CFR 351.212(c)(1)(i). Commerce intends to issue appropriate assessment instructions directly to CBP 15 days after publication of this notice in the Federal Register.

Notification to Importers

This notice serves as the only reminder to importers of their responsibility under 19 CFR 351.402(f)(2) to file a certificate regarding the reimbursement of countervailing duties prior to liquidation of the relevant entries during this review period. Failure to comply with this requirement could result in the presumption that reimbursement of the countervailing duties occurred and the subsequent assessment of doubled countervailing duties.

Notification Regarding Administrative Protective Order

This notice also serves as the only reminder to parties subject to administrative protective order (APO) of their responsibility concerning the return or destruction of proprietary information disclosed under an APO in accordance with 19 CFR 351.305(a)(3). Timely written notification of the return/destruction of APO materials or conversion to judicial protective order is hereby requested. Failure to comply with the regulations and terms of an APO is a violation which is subject to sanction. This notice is issued and published in accordance with sections 751 of the Act and 19 CFR 351.213(d)(4).

Dated: March 22, 2018.
James Maeder,
Associate Deputy Assistant Secretary for Antidumping and Countervailing Duty Operations, performing the duties of Deputy Assistant Secretary for Antidumping and Countervailing Duty Operations.

[FR Doc. 2018-06219 Filed 3-27-18; 8:45 am]

BILLING CODE 3510-DS-P